DEPARTMENT OF JUSTICE

Notice of Lodging of Proposed Consent Decree Under the Clean Water Act

On June 22, 2023, the Department of Justice lodged a proposed consent decree with the United States District Court for the Northern District of West Virginia in the lawsuit entitled United States and West Virginia v. Messer LLC, Civil Action No. 5:23-cv-0023-JPB.

The United States and State of West Virginia filed this lawsuit under the Clean Water Act. The complaint seeks injunctive relief and civil penalties against Defendant Messer LLC for National Pollutant Discharge Elimination System permit numeric effluent limit violations with respect to wastewater discharges from Messer's industrial gas manufacturing plant in New Cumberland, West Virginia. The consent decree requires the defendant to perform injunctive relief, including, but not limited to, the operation of a newly installed copper treatment system by certain deadlines, the implementation of a tiered effluent limit response plan, as well as revision and routine performance of stormwater best management practice measures. The consent decree also requires the defendant to pay a $1.9 million civil penalty.

The publication of this notice opens a period for public comment on the consent decree. Comments should be addressed to the Assistant Attorney General, Environment and Natural Resources Division, and should refer to United States and West Virginia v. Messer LLC, D.J. Ref. No. 90-5-1-1-12590. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $13.25 (25 cents per page reproduction cost) payable to the United States Treasury.

Jeffrey Sands,
Assistant Section Chief, Environmental Enforcement Section, Environment and Natural Resources Division.

[FR Doc. 2023-13779 Filed 6-27-23; 8:45 am]

BILLING CODE P